SOCIAL SECURITY ADMINISTRATION

[Docket No: SSA-2020-0051]

Agency Information Collection Activities: Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2020-0051].

SSA submitted the information collections below to OMB for clearance. Your comments regarding these information collections would be most useful if OMB and SSA receive them 30 days from the date of this publication. To be sure we consider your comments, we must receive them no later than October 26, 2020. Individuals can obtain copies of these OMB clearance packages by writing to OR.Reports.Clearance@ssa.gov.

1. Government Pension Questionnaire—20 CFR 404.408a—0960-0160. The basic Social Security benefits application (OMB No. 0960-0618) contains a lead question asking if the applicants are qualified (or will qualify) to receive a government pension. If the respondent is qualified, or will qualify, to receive a government pension, the applicant completes Form SSA-3885 either on paper or through a personal interview with an SSA claims specialist. If the applicants are not entitled to receive a government pension at the time they apply for Social Security benefits, SSA requires them to provide the government pension information as beneficiaries when they become eligible to receive their pensions. Regardless of the timing, at some point the applicants or beneficiaries must complete and sign Form SSA-3885 to report information about their government pensions before the pensions begin. SSA uses the information to: (1) determine whether the Government Pension Offset provision applies; (2) identify exceptions as stated in 20 CFR 404.408a; and (3) determine the benefit reduction amount and effective date. If the applicants and beneficiaries do not respond using this questionnaire, SSA offsets their entire benefit amount. The respondents are applicants or recipients of spousal benefits who are eligible for or already receiving a Government pension.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-3885 | 6,495 | 1 | 13 | 1,407 | * $25.72 | ** 24 | *** $103,009
* We based this figure on average U.S. worker's hourly wages, as reported by Bureau of Labor Statistics data (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

2. RS/DI Quality Review Case Analysis: Sampled Number Holder; Auxiliaries/Survivors; Parent; and Stewardship Annual Earnings Test—0960-0189. Section 205(a) of the Social Security Act (Act) authorizes the Commissioner of SSA to conduct the quality review process, which entails collecting information related to the accuracy of payments made under the Old-Age, Survivors, and Disability Insurance Program (OASDI). Sections 228(a)(3), 1614(a)(1)(B), and 1836(2) of the Act require a determination of the citizenship or alien status of the beneficiary; this is only one item that we might question as part of the Annual Quality review. SSA uses Forms SSA-2930, SSA-2931, and SSA-2935 to establish a national payment accuracy rate for all cases in payment status, and to serve as a source of information regarding problem areas in the Retirement Survivors Insurance (RSI) and Disability Insurance (DI) programs. We also use the information to measure the accuracy rate for newly adjudicated RSI or DI cases. SSA uses Form SSA-4659 to evaluate the effectiveness of the annual earnings test, and to use the results in developing ongoing improvements in the process. About 25% of respondents have in-person reviews and receive one of the following appointment letters: (1) SSA-L8550-U3 (Appointment Letter—Sample Individual); (2) SSA-L8551-U3 (Appointment Letter—Sample Family); or (3) the SSA-L8552-U3 (Appointment Letter—Rep Payee). About 75% of respondents receive a notice for a telephone review using the SSA-L8553-U3 (Beneficiary Telephone Contact) or the SSA-L8554-U3 (Rep Payee Telephone Contact). To help the beneficiary prepare for the interview, we include three forms with each notice: (1) SSA-85 (Information Needed to Review Your Social Security Claim) lists the information the beneficiary needs to gather for the interview; (2) SSA-2935 (Authorization to the Social Security Administration to Obtain Personal Information) verifies the beneficiary's correct payment amount, if necessary; and (3) SSA-8552 (Interview Confirmation) confirms or reschedules the interview if necessary. The respondents are a statistically valid sample of all OASDI beneficiaries in current pay status or their representative payees.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-2930 | 1,500 | 1 | 30 | 750 | * 18.23 | ** 24 | *** 24,611
SSA-2931 | 850 | 1 | 30 | 425 | * 18.23 | ** 24 | *** 13,946
SSA-4659 | 325 | 1 | 10 | 54 | * 18.23 | ** 24 | *** 3,354
SSA-L8550-U3 | 385 | 1 | 5 | 32 | * 18.23 | ** 24 | *** 3,390
SSA-L8551-U3 | 95 | 1 | 5 | 8 | * 18.23 | ** 24 | *** 839
SSA-L8552-U3 | 35 | 1 | 5 | 3 | * 18.23 | ** 24 | *** 310
SSA-L8553-U3 | 4,970 | 1 | 5 | 414 | * 18.23 | ** 24 | *** 43,788
SSA-L8554-U3 | 705 | 1 | 5 | 59 | * 18.23 | ** 24 | *** 6,217
SSA-8552 | 2,350 | 1 | 5 | 196 | * 18.23 | ** 24 | *** 20,709
SSA-85 | 3,850 | 1 | 5 | 321 | * 18.23 | ** 24 | *** 33,926
SSA-2935 | 2,350 | 1 | 5 | 196 | * 18.23 | ** 24 | *** 20,709
SSA-8510 (also saved under OMB No. 0960-0707) | 800 | 1 | 5 | 67 | * 18.23 | ** 24 | *** 7,055
Totals | 18,215 |  |  | 2,525 |  |  | *** 178,854
* We based this figure on averaging both the average DI payments based on SSA's current FY 2020 data (https://www.ssa.gov/legislation/2020Fact%20Sheet.pdf), and the average U.S. worker's hourly wages, as reported by Bureau of Labor Statistics data (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

3. Application for Benefits under a U.S. International Social Security Agreement—20 CFR 404.1925—0960-0448. Section 233(a) of the Social Security Act (Act) authorizes the President to enter into international Social Security agreements (Totalization Agreements) between the United States and foreign countries. SSA collects information using Form SSA-2490-BK to determine entitlement to Social Security benefits from the United States, or from a country that enters into a Totalization Agreement with the United States. The respondents are individuals applying for Old Age Survivors and Disability Insurance (OASDI) benefits from the United States, or from a Totalization Agreement country.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-2490-BK (MCS) | 16,195 | 1 | 30 | 8,098 | * 10.73 | ** 24 | *** 156,401
SSA-2490-BK (Paper) | 2,120 | 1 | 30 | 1,060 | * 10.73 | ** 24 | *** 20,473
Totals | 18,315 |  |  | 9,158 |  |  | *** 176,874
* We based this figure on average DI payments based on SSA's current FY 2020 data (https://www.ssa.gov/legislation/2020Fact%20Sheet.pdf).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

4. Employee Identification Statement—20 CFR 404.702—0960-0473. When two or more individuals report earnings under the same Social Security Number (SSN), SSA collects information on Form SSA-4156 to credit the earnings to the correct individual and SSN. We send SSA-4156 to the employer to: (1) Identify the employees involved; (2) resolve the discrepancy; and (3) credit the earnings to the correct SSN. The respondents are employers involved in erroneous wage reporting for an employee.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-4156 | 3,600 | 1 | 10 | 600 | * 25.72 | ** 24 | *** 52,469
* We based this figure on average U.S. worker's hourly wages, as reported by Bureau of Labor Statistics data (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

5. SSI Notice of Interim Assistance Reimbursement (IAR)—0960-0546. Section 1631(g) of the Act authorizes SSA to reimburse an IAR agency from an individual's retroactive Supplemental Security Income (SSI) payment for assistance the IAR agency gave the individual for meeting basic needs while an SSI claim was pending or SSI payments were suspended or terminated. The State or local agency needs an IAR agreement with SSA to participate in the IAR program. The individual receiving the IAR payment signs an authorization form with an IAR agency to allow SSA to repay the IAR agency for funds paid in advance prior to SSA's determination on the individual's claim. The authorization represents the individual's intent to file for SSI, if they did not file an application before SSA received the authorization. Agencies who wish to enter into an IAR agreement with SSA need to meet the following requirements:

• Reporting Requirements—each IAR agency agrees to:

(a) notify SSA of receipt of an authorization for initial claims or cases the agency is appealing;

(b) submit a copy of that authorization either through a manual or electronic process;

(c) inform SSA of the amount of reimbursement;

(d) submit a written request for dispute resolution on a determination;

(e) notify SSA of interim assistance paid (using the SSA-8125 or the SSA-L8125-F6);

(f) inform SSA of any deceased claimants who participate in the IAR program;

(g) review and sign an agreement with SSA.

• Recordkeeping Requirements (h & i)—each IAR agency agrees to retain all notices, agreements, authorizations, and accounting forms for the period defined in the IAR agreement so SSA may verify transactions covered under the agreement.

• Third Party Disclosure Requirements (j): Each participating IAR agency agrees to send written notices from the IAR agency to the recipient regarding payment amounts and appeal rights.

• Periodic Review of Agency Accounting Process (k-m) - each IAR agency makes the IAR accounting records of paid cases available for SSA review and verification. SSA conducts reviews either onsite or through the mail of the authorization forms, notices to the claimant, and accounting forms. Upon completion of the review, SSA provides a written report of findings to the IAR agency director.

The respondents are State IAR officers.

Type of Request: Revision of an OMB-approved information 1 2 3 collection.

Modality of completion | Number of respondents (States) | Frequency of response | Number of responses | Average burden per response (minutes) | Estimated total annual burden (hours) | Average theoretical hourly cost amount (dollars) * | Total annual opportunity cost (dollars) **
(a) State notification of receipt of authorization (Electronic Process) | 11 | 6,973 | 76,703 | 1 | 1,278 | * 19.58 | ** 25,023
(b) State submission of copy of authorization (Manual Process) | 27 | 1,894 | 51,138 | 3 | 2,557 | * 19.58 | ** 50,066
(c) State submission of amount of IA paid to recipients (using eIAR) | 38 | 1,346 | 51,148 | 8 | 6,820 | * 19.58 | ** 133,536
(d) State request for determination—dispute resolution | (¹) | 1 | 2 | 30 | 1 | * 19.58 | ** 20
(e) State computation of reimbursement due form SSA using paper Form SSA-L8125-F6 | 38 | 1 | 38 | 30 | 4 | * 19.58 | ** 78
(f) State notification to SSA of deceased claimant | 20 | 2 | 40 | 15 | 10 | * 19.58 | ** 196
(g) State reviewing/signing of IAR Agreement | 38 | 1 | 38 | ² 12 | 456 | * 19.58 | ** 8,928
¹ Average of about 2 States per year.
² Hours.

Recordkeeping Requirements
Modality of completion | Number of respondents (States) | Frequency of response | Number of responses | Average burden per response (minutes) | Estimated total annual burden (hours) | Average theoretical hourly cost amount (dollars) * | Total annual opportunity cost (dollars) **
(h) Maintenance of authorization forms | 38 | 3,364 | ³ 127,832 | 3 | 6,392 | * 21.09 | ** 134,807
(i) Maintenance of accounting forms and notices | 38 | 1,346 | 51,148 | 3 | 2,557 | * 21.09 | ** 53,927
³ Includes both denied and approved SSI claims.

Third Party Disclosure Requirements
Modality of completion | Number of respondents (States) | Frequency of response | Number of responses | Average burden per response (minutes) | Estimated total annual burden (hours) | Average theoretical hourly cost amount (dollars) * | Total annual opportunity cost (dollars) **
(j) Written notice from State to recipient regarding amount of payment | 38 | 2668 | 101,384 | 7 | 11,828 | * 19.58 | ** 231,592

Periodic Review of Agency Accounting Process
Modality of completion | Number of respondents (States) | Frequency of response | Number of responses | Average burden per response (minutes) | Estimated total annual burden (hours) | Average theoretical hourly cost amount (dollars) * | Total annual opportunity cost (dollars) **
(k) Retrieve and consolidate authorization and accounting forms | 12 | 1 | 12 | 3 | 36 | * 21.09 | ** 759
(l) Participate in periodic review | 12 | 1 | 12 | 16 | 192 | * 21.09 | ** 4,049
(m) Correct administrative and accounting discrepancies | 6 | 1 | 6 | 4 | 24 | * 21.09 | ** 506

Total Administrative Burden
Modality of completion | Number of respondents (States) | Frequency of response | Number of responses | Average burden per response (minutes) | Estimated total annual burden (hours) | Average theoretical hourly cost amount (dollars) * | Total annual opportunity cost (dollars) **
Total | 38 |  | 408,353 |  | 32,155 |  | ** 643,487
* We based this figure on average Social and Human Services Assistants (https://www.bls.gov/oes/current/oes211093.htm), and Information and Records Clerks (https://www.bls.gov/oes/current/oes434199.htm).
** This figure does not represent actual costs that SSA is imposing on recipients of Social Security payments to complete this application; rather, these are theoretical opportunity costs for the additional time respondents will spend to complete the application. There is no actual charge to respondents to complete the application.

6. Appeal of Determination for Help with Medicare Prescription Drug Plan Costs—0960-0695. Public Law 108-173, the Medicare Prescription Drug, Improvement and Modernization Act of 2003 (MMA), established the Medicare Part D program for voluntary prescription drug coverage for certain low-income individuals. The MMA stipulates the provision of subsidies for individuals who are eligible for the program and who meet eligibility criteria for help with premium, deductible, and co-payment costs. SSA uses Form SSA-1021, Appeal of Determination for Help With Medicare Prescription Drug Plan Costs, to obtain information from individuals who appeal SSA's decisions regarding eligibility or continuing eligibility for a Medicare Part D subsidy. The respondents are Medicare beneficiaries, or proper applicants acting on behalf of a Medicare beneficiary, who do not agree with the outcome of an SSA subsidy eligibility determination, and are filing an appeal.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-1021 (Paper version) | 2,872 | 1 | 10 | 479 | * $46.28 | 0 | *** $22,168
SSA-1021 (Intranet version: MAPS) | 9,691 | 1 | 10 | 1,615 | * 46.28 | ** 24 | *** 254,123
Totals | 12,563 |  |  | 2,094 |  |  | *** 276,291
* We based this figure on average U.S. worker's hourly wages (https://www.bls.gov/oes/current/oes_nat.htm); State and local government worker's salaries (https://www.bls.gov/oes/current/naics4_999300.htm); and attorney representative payee wages (https://www.bls.gov/oes/current/oes231011.htm), as reported by Bureau of Labor Statistics data.
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

7. Request for Medical Treatment in an SSA Employee Health Facility: Patient Self-Administered or Staff Administered Care—0960-0772. SSA operates onsite Employee Health Clinics (EHC) in eight different States. These clinics provide health care for all SSA employees including treatments of personal medical conditions when authorized through a physician. Form SSA-5072 is the employee's personal physician's order form. The information we collect on Form SSA-5072 gives the EHC nurses the guidance they need to perform certain medical procedures and to administer prescription medications such as allergy immunotherapy. In addition, the information allows the SSA medical officer to determine whether the nurses can administer treatment safely and appropriately in the SSA EHCs. Respondents are physicians of SSA employees who need to have medical treatment in an SSA EHC.

Type of Request: Revision of an OMB-approved information collection.

Modality of completion | Number of respondents (states) | Frequency of response | Number of responses | Average burden per response (minutes) | Estimated total annual burden hours (hours) | Average theoretical hourly cost amount (dollars) * | Total annual opportunity cost (dollars) **
SSA-5072 Annually | 25 | 1 | 25 | 5 | 2 | * $96.85 | ** $194
SSA-5072 Bi-Annually | 75 | 2 | 150 | 5 | 13 | * 96.85 | ** 1,259
Totals | 100 |  |  |  | 15 |  | ** 1,453
* We based this figure on average physician's hourly salary, as reported by Bureau of Labor Statistics data (https://www.bls.gov/oes/current/oes291216.htm).
** This figure does not represent actual costs that SSA is imposing on recipients of Social Security payments to complete this application; rather, these are theoretical opportunity costs for the additional time respondents will spend to complete the application. There is no actual charge to respondents to complete the application.

8. Medicare Income-Related Monthly Adjustment Amount—Life-Changing Event Form—0960-0784. Federally-mandated reductions in the Federal Medicare Part B and prescription drug coverage subsidies result in selected Medicare recipients paying higher premiums with income above a specific threshold. The amount of the premium subsidy reduction is an income-related monthly adjustment amount (IRMAA). The Internal Revenue Service transmits income tax return data to SSA for SSA to determine the IRMAA. SSA uses the Form SSA-44 to determine if a recipient qualifies for a reduction in the IRMAA. If affected Medicare recipients believe SSA should use more recent tax data because of a life-changing event that significantly reduces their income, they can report these changes to SSA and ask for a new initial determination of their IRMAA. The respondents are Medicare Part B and prescription drug coverage Retirement Insurance recipients and enrollees with modified adjusted gross income over a high-income threshold who experience one of eight significant life-changing events.

Type of Request: Revision of an OMB-approved information collection.

Modality of completion | Number of respondents | Frequency of esponse | Average burden per response (minutes) | Estimated total annual burden (hours) | Average theoretical hourly cost amount (dollars) * | Average wait time in field office (minutes) ** | Total annual opportunity cost (dollars) ***
Personal Interview (SSA field office) | 178,840 | 1 | 30 | 89,420 | * $25.72 | ** 24 | *** $4,139,788
SSA-44 | 76,645 | 1 | 45 | 57,484 | * 25.72 | 0 | *** 1,478,488
Totals | 255,485 |  |  | 146,904 |  |  | *** 5,618,276
* We based this figure on average U.S. worker's hourly wages, as reported by Bureau of Labor Statistics data (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

Dated: September 22, 2020.
Naomi Sipple,
Reports Clearance Officer, Social Security Administration.

[FR Doc. 2020-21180 Filed 9-24-20; 8:45 am]

BILLING CODE 4191-02-P